UNIFIED CARRIER REGISTRATION PLAN

Sunshine Act Meeting Notice; Unified Carrier Registration Plan Board of Directors Meeting

TIME AND DATE: August 12, 2021, from 12:00 p.m. to 3:00 p.m., Eastern time.

PLACE: This meeting will be accessible via conference call and screensharing. Any interested person may call 877-853-5247 (US toll free), 888-788-0099 (US toll free), +1 929-205-6099 (US toll), or +1 669-900-6833 (US toll), Conference ID 995 6487 9014, to participate in the meeting. The website to participate via Zoom meeting and screenshare is https://kellen.zoom.us/j/99564879014.

STATUS: This meeting will be open to the public.

MATTERS TO BE CONSIDERED: The Unified Carrier Registration Plan Board of Directors (the “Board”) will continue its work in developing and implementing the Unified Carrier Registration Plan and Agreement. The subject matter of the meeting will include:

Agenda

I. Welcome and Call to Order—UCR Board Chair

The UCR Board Chair will welcome attendees, call the meeting to order, call roll for the Board, confirm the presence of a quorum, and facilitate self-introductions.

II. Verification of Meeting Notice—UCR Executive Director

The UCR Executive Director will verify publication of the meeting notice on the UCR website and distribution to the UCR contact list via email followed by subsequent publication of the notice in the Federal Register.

III. Review and Approval of Board Agenda—UCR Board Chair

For Discussion and Possible Action

The proposed Agenda will be reviewed, and the Board will consider adoption.

Ground Rules

Board actions taken only in designated areas on agenda

IV. Approval of Minutes of the June 8, 2021 UCR Board Meeting—UCR Board Chair

For Discussion and Possible Action

Draft Minutes of the June 8, 2021 Board meeting will be reviewed. The Board will consider action to approve.

V. Report of the Federal Motor Carrier Safety Administration (FMCSA)—FMCSA Representative

The FMCSA will provide a report on any relevant activity.

VI. Updates Concerning UCR Legislation—UCR Board Chair

The UCR Board Chair will call for any updates regarding UCR legislation since the last Board meeting.

VII. Chief Legal Officer Report—UCR Chief Legal Officer

The UCR Chief Legal Officer will provide an update on all relevant legal matters regarding the UCR.

VIII. UCR Pilot Projects 2021/2022—UCR Executive Director and DSL Transportation Services, Inc.

For Discussion and Possible Action

The UCR Executive Director and DSL Transportation Services, Inc., will lead a discussion regarding potential pilot projects that UCR may pursue to optimize registration compliance. The Board may take action to proceed with one or more pilot projects on the same or amended terms as recommended by the UCR Finance Subcommittee. The UCR Finance Subcommittee recommends the Board proceed with the pilot projects.

IX. 2022 UCR Planned Meeting Schedule—UCR Executive Director

The UCR Executive Director will present the proposed meeting schedule of the Board and the UCR Subcommittees and facilitate a discussion regarding telephonic and in-person meetings in calendar year 2022.

X. Subcommittee Reports

Audit Subcommittee—UCR Audit Subcommittee Chair

A. State UCR Audit Reports for Registration Year 2020—UCR Audit Subcommittee Chair

For Discussion and Possible Action

The UCR Audit Subcommittee Chair will lead a discussion regarding the states' obligations to complete audit reports for registration year 2020 and discuss the status of audit reports for registration year 2020 that were due on June 1, 2021.

B. Motor Carriers Inspected That Should Have Been (SHB) Cited for Not Having Valid UCR Registration During Recent Roadside Inspections—UCR Audit Subcommittee Chair

For Discussion and Possible Action

The UCR Audit Subcommittee Chair will lead a discussion on what a SHB is, where to locate your state's SHBs, and review the states' obligations to follow-up with these motor carriers.

Finance Subcommittee—UCR Finance Subcommittee Chair

A. 2023 Registration Fee Change Recommendation—UCR Finance Subcommittee Chair and UCR Depository Manager

For Discussion and Possible Board Action

The UCR Finance Subcommittee Chair and the UCR Depository Manager will discuss the results of an analysis of actual and forecasted 2021 registration year revenue for the purpose of proposing a fee change recommendation for the 2023 registration year. In addition, the discussion will include potential adjustments to the 2023 administrative operating budget that will affect the fee change calculations. The Board may take action to recommend both fee and administrative operating budget changes to the Secretary of the U.S. Department of Transportation (US DOT) for the 2023 UCR registration year. The UCR Finance Subcommittee recommends the Board adopt a recommendation containing both fee and administrative operating budget changes to the Secretary of the US DOT for the 2023 registration year.

B. Maturing of Certificate of Deposit—UCR Depository Manager

For Discussion and Possible Board Action

The UCR Depository Manager will provide an update on the CD maturing in August 2021. The Board may take action to reinvest the proceeds. The UCR Finance Subcommittee recommends the Board reinvest $2,650,000.00 in a CD at the Bank of North Dakota for three months at the prevailing rate of interest at the time of investment.

Education and Training Subcommittee—UCR Education and Training Subcommittee Chair

Update on Audit Training Modules in Development—UCR Education and Training Subcommittee Chair and UCR Operations Director

The UCR Education and Training Subcommittee Chair and the UCR Operations Director will provide an update on the development of the Basic Audit Training Module and the Step-by-Step Approach to a UCR Audit, which is the second training model currently in development.

XI. Contractor Reports—UCR Executive Director

• UCR Executive Director's Report

The UCR Executive Director will provide a report covering recent activity for the UCR Plan.

• DSL Transportation Services, Inc.

DSL Transportation Services, Inc. will report on the latest data from the Focused Anomaly Reviews program, discuss motor carrier inspection results, and other matters.

• Seikosoft

Seikosoft will provide an update on recent/new activity related to the National Registration System.

• UCR Administrator Report (Kellen)—UCR Operations Director and UCR Depository Manager

The UCR Staff will provide a management report covering recent activity for the Depository, Operations, and Communications.

XII. Other Business—UCR Board Chair

The UCR Board Chair will call for any other items Board members would like to discuss.

XIII. Adjournment—UCR Board Chair

The UCR Board Chair will adjourn the meeting.

This agenda will be available no later than 5:00 p.m. Eastern time, April 5, 2021 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2021-17038 Filed 8-5-21; 4:15 pm]

BILLING CODE 4910-YL-P